DEPARTMENT OF ENERGY

Federal Energy Regulatory Commission

[Docket No. RP08-350-000]

Southern Star Central Gas Pipeline, Inc.; Revised Notice of Informal Settlement Conference

October 31, 2008.

Take notice that an informal settlement conference will be convened in this proceeding commencing at 1 p.m. on Wednesday, November 12, 2008. The conference will continue through close of business Friday, November 14, 2008, if necessary at the offices of the Federal Energy Regulatory Commission, 888 First Street, NE., Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

FERC conferences are accessible under section 508 of the Rehabilitation Act of 1973. For accessibility accommodations please send an e-mail to accessibility@ferc.gov or call toll free 1-866-208-3372 (voice) or (202) 208-1659 (TTY), or send a FAX to (202) 208-2106 with the required accommodations.

For additional information, please contact James Keegan at (202) 502-8158, James.Keegan@ferc.gov.

Kimberly Bose,
Secretary.

[FR Doc. E8-26579 Filed 11-6-08; 8:45 am]

BILLING CODE 6717-01-P